DEPARTMENT OF ENERGY

Federal Energy Regulatory Commission

[Docket No. EL02-10-000 et al.]

Hydro Investors, Inc. etc; Notice of Complaint

In the matter of: Hydro Investors, Inc. v. Trafalgar Power, Inc., Christine Falls of New York, Franklin Industrial Complex, Inc., Aetna Life Insurance Company, Algonquin Power Corporation, Algonquin Power Income Fund, and Algonquin Power Fund (Canada) Trafalgar Power, Inc.; (Docket No. EL02-10-000) Project Nos. 4900-068, 5000-064, 6878-010, 9685-026, 9709-057, 9821-097; Christine Falls of New York, Inc., formerly Christine Falls Corporation; Project No.4639-026; Franklin Industrial Complex, Inc.; Project No. 3760-011, Notice of Complaint.

October 23, 2001.

Take notice that on October 19, 2001, Hydro Investors, Inc. (HII), filed a complaint pursuant to Rule 206 of the Commission's Rules of Practice and Procedure, 18 CFR 385.206, and Part I of the Federal Power Act (FPA), 16 U.S.C. 791, et seq., against Trafalgar Power, Inc. (Trafalgar), Christine Falls of New York (Christine Falls), Franklin Industrial Complex, Inc. (Franklin), Aetna Life Insurance Company (Aetna), Algonquin Power Corporation, Algonquin Power Income Fund and Algonquin Power Fund (Canada) (collectively Algonquin). HII alleges that Trafalgar and Algonquin have made inconsistent and contradictory statements to the Commission related to the requisite control exerted over the above-captioned projects, that Algonquin has suppressed the output from the Steven Mills Project No. 3760 in violation of section 10(h) of the FPA and removed the operating logs from the site of the project in violation of part 12 of the Commission's regulations. HII also alleges that Trafalgar, Christine Falls, and Franklin have engaged in financial misconduct in violation of the Commission's Uniform System of Accounts, 18 CFR Part 101.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before November 8, 2001. Protests will be considered by the Commission in determining the appropriate action to be taken, but will not serve to make protestants parties to the proceeding. Any person wishing to become a party must file a motion to intervene. Answers to the complaint shall also be due on or before November 8, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-27081 Filed 10-26-01; 8:45 am]

BILLING CODE 6717-01-P